DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Family Treatment Drug Court Services Evaluation (OMB No. 0930-0330)—Reinstatement

In 2010, the Substance Abuse and Mental Health Services Administration (SAMHSA), Center for Substance Abuse Treatment (CSAT), provided funding to 12 existing Family Treatment Drug Courts (FTDCs) for enhancement and/or expansion of their FTDC's capabilities to provide psycho-social, emotional and mental health services to children (0-17 years) and their families who have methamphetamine use disorders and involvement in child protective services. This program was authorized in House Report 111-220 accompanying HR 3293 in 2010. The Committee language stated that “these grants will support a collaborative approach, including treatment providers, child welfare specialists, and judges, to provide community-based social services for the children of methamphetamine-addicted parents,” and were to be awarded to Family Dependency Treatment Drug Courts.

SAMHSA is requesting to reinstate OMB approval of instruments used in the Children Affected by Methamphetamine (CAM) grant program through 2020 for a new cohort of grantees under the new program name of Family Treatment Drug Courts, or FTDCs. The continued use of these instruments will allow SAMHSA to collect data on The FTDC grantees that is not otherwise captured: The national evaluation of the FTDC project will collect data on: (1) Child Outcomes; (2) Parent/Caregiver Outcomes; and (3) Family Functioning. The results from this data collection will serve to inform future decisions regarding funding by SAMHSA as well as establish an evidence base for the practices undertaken for other localities and programs implementing Family Treatment Drug Courts. The overall reporting burden is estimated at 720.5 hours.

Providing children's services in an FTDC was a new activity for FTDCs and the grantees. The purpose of the evaluation was to monitor the grantees progress and to measure their performance on child, family and adult outcomes. These outcomes were compared to referent data available at the local and or State level, and to pre-post measures for family functioning. Previous data collection efforts have measured occurrence of maltreatment and substance exposed newborns. The child/youth indicators related to permanency assess whether they remain in their home, the length of stay in foster care (if they are out of their home), the proportion who re-enter foster care, the proportion who were reunified, the length of time to reunification and whether the children and youth exit services with adoption or legal guardianship if they are not reunified with their parents. The adult indicators related to recovery include substance use, access to treatment, treatment outcomes, employment and criminal behavior. The results of the evaluations were used by grantees to measure the progress of their programs, and aided their efforts to sustain the activities once the grants ended.

To the greatest extent possible, the data elements are operationally defined using standard definitions in child welfare and substance abuse treatment. The use of standard data definitions will reduce the data collection burden on grantees as these variables are collected through data collection procedures that currently exist through all publically funded child welfare and substance abuse treatment systems. The FTDC performance measures are data currently collected by programs as part of their normal operations (e.g., placement status in child welfare services, substance abuse treatment entry dates). Thus, minimal data collection from clients will be required as the grantees will be abstracting existing data. The only new information collected will be from the North Carolina Family Assessment Scale (NCFAS) assessment obtained from participants during the intake and discharge interviews. If needed, the FTDC staff member may supplement this information by obtaining information from other staff that interact with the client (i.e., the social worker familiar with the family) or during a home visit (if this is part of their program activities).

It should be re-emphasized that the FTDC projects are expansions or enhancements of FTDC partnerships that currently have existing relationships (and information sharing/confidentiality agreements) in place. It is through this existing information sharing forum that the FTDC grantees will be able to obtain the requisite child welfare and substance abuse treatment performance measures. The grantees will use electronic abstraction and secondary data collection for elements that are already being collected by counties and States in their reporting requirements of Federally-mandated data.

Table 1 presents the estimated total cost burden associated with the collection of the FTDC data elements. The following estimates represent the number of anticipated participants based on experience with the previous CAM program. There are two sources of data collection burden for the performance system. First, FTDC staff extracts data from secondary sources for the child, parent/caregiver and family functioning data elements for biannual data uploads. The total number of responses is two per year; with each upload taking approximately 16 hours at each site. In addition to the data extraction, FTDC staff will complete 2 administrations (intake and discharge) of the NCFAS for each family (approximately 267 families per year based on estimates extrapolated from the CAM program). The NCFAS takes approximately .75 hours to complete per family per administration. The estimated total cost of the time FTDC staff will spend completing data collection is $15,952 per year (total number of staff hours, 720.5 hours, multiplied by $22.14, the estimated average hourly wages for social work professionals as published by the Bureau of Labor Statistics, 2013). See Table 1.

Table 1—Annualized Hour Burden
Form/instrument | Number of records | Responses per record | Total responses | Hours per response | Total hour burden
FTDC Form—Biannual extraction of extant data × 10 grantees | 10 | 2 | 20 | 16 | 320
NCFAS—Administered twice for each family | 267 | 2 | 534 | .75 | 400.5
Total | 277 |  | 554 |  | 720.5
Note: The estimated response burden includes the extractions and uploads to the FTDC Form and administration the North Carolina Family Assessment Form.

Written comments and recommendations concerning the proposed information collection should be sent by July 16, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-14733 Filed 6-15-15; 8:45 am]

BILLING CODE 4162-20-P